FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—03/24/2003
20030458 | Fiserv, Inc | Bruce Christensen | Precision Computer Systems, Inc.
20030462 | General Atlantic Partners 76, L.P | SSA Investor, LLC | SSA Global Technologies, Inc.
20030469 | Cooperatieve Centrale Raiffeisen-Boerenleenbank B.A | Southeast Timber, Inc | Southeast Timber, Inc.
20030470 | International Paper Company | Southeast Timber, Inc | Southeast Timber, Inc.
Transactions Granted Early Termination—03/25/2003
20030421 | Johnson & Johnson | Grunenthal Pharma GmbH & Co. KG | Gruenthal GmbH.
20030448 | Philadelphia Suburban Corporation | DQE, Inc | AcquaSource Development Company. Aqua Source Operations, Inc. AquaSource Utility, Inc. The Reynolds Group, Inc.
Transactions Granted Early Termination—03/26/2003
20021081 | A. Jerrold Perenchio | Hispanic Broadcasting Corporation | Hispanic Broadcasting Corporation. Univision Communications, Inc.
20030419 | Behrman Capital III, L.P | ILC Industries, Inc | ILC Industries, Inc.
20030457 | Artal Group S.A | Florine Mark | The WW Group, Inc.
Transactions Granted Early Termination—03/27/2003
20030375 | L-3 Communications Holdings, Inc | Goodrich Corporation | Goodrich Aerospace Component Overhaul & Repair, Inc. Goodrich Avionics Systems, Inc. Goodrich FlightSystems, Inc.
Transactions Granted Early Termination—03/28/2003
20030484 | The Riverside Company | VS&A Communications Partners II, L.P | ExpoExchange, LLC.
20030488 | MidMark Equity Partners II, L.P | Davis Industries, Inc | Davis Industries, Inc.
Transactions Granted Early Termination—04/01/2003
20030471 | Perry Ellis International, Inc | Salant Corporation | Salant Corporation.
20030475 | Citigroup Inc | Worldspan, L.P | Worldspan, L.P
Transactions Granted Early Termination—04/02/2003
20030452 | Taylor & Francis Group plc | Information Holdings Inc | CRC Press (UK) LLC. CRC Press LLC. The Parthenon Publishing Group Inc.
20030459 | Societe Wallonne de Gestion et de Participations, S.A | Duferco Participation Holding Limited | Duferco U.S. Investment Corp.
20030464 | Johnson & Johnson | Scios Inc | Scios Inc.
20030472 | CBRE Holding, Inc | Insignia Financial Group, Inc | Insignia Financial Group, Inc.
20030476 | Liz Claiborne, Inc | Pamela Skaist-Levy and Jeffrey Levy | Travis Jeans, Inc.
20030480 | Blum Strategic Partners, L.P | CBRE Holding, Inc | CBRE Holding, Inc.
20030481 | Blum Strategic Partners II, L.P | CBRE Holding, Inc | CBRE Holding, Inc.

For Further Information Contact:

Sandra M. Peay, Contact Representative or Renee Hallman, Legal Technician, Federal Trade Commission, Premerger Notification Office, Bureau of Competition, Room H-303, Washington, DC 20580, (202) 326-3100.

By Direction of the Commission.
Donald S. Clark,
Secretary.

[FR Doc. 03-9853 Filed 4-21-03; 8:45 am]

BILLING CODE 6750-01-M